DEPARTMENT OF THE INTERIOR

National Park Service

[NPS-WASO-NRNHL-DTS#-40379; PPWOCRADI0, PCU00RP14.R50000]

National Register of Historic Places; Notification of Pending Nominations and Related Actions

AGENCY: National Park Service, Interior.

ACTION: Notice.

SUMMARY: The National Park Service is soliciting electronic comments on the significance of properties nominated before May 31, 2025, for listing or related actions in the National Register of Historic Places.

DATES: Comments should be submitted electronically by July 3, 2025.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 2013, Washington, DC 20240.

FOR FURTHER INFORMATION CONTACT: Sherry A. Frear, Chief, National Register of Historic Places/National Historic Landmarks Program, 1849 C Street NW, MS 2013, Washington, DC 20240, sherry_frear@nps.gov, 202-913-3763.

SUPPLEMENTARY INFORMATION: The properties listed in this notice are being considered for listing or related actions in the National Register of Historic Places. Nominations for their consideration were received by the National Park Service before May 31, 2025. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

Key: State, County, Property Name, Multiple Name(if applicable), Address/Boundary, City, Vicinity, Reference Number.

ARIZONA

Pima County

Wilshire Heights Historic District, East of Craycroft Road between Broadway Boulevard and 22nd Street, Tucson, SG100011979

Pinal County

Thompson, Boyce, Southwestern Arboretum (Boundary Increase), 38645 East Arboretum Way, Superior vicinity, BC100012002

CALIFORNIA

Placer County

Placer County Administrative Center, 175 Fulweiler Ave, Auburn, SG100011991

Riverside County

Trujillo Adobe, 3669 W Center Street, Riverside, SG100011987

DISTRICT OF COLUMBIA

District of Columbia

Euram Building, 21 Dupont Circle NW, Washington, SG100011988

GEORGIA

Brooks County

Cross Roads School, (Rosenwald Schools in Georgia, 1912-1937), 40 Hodges Road, Dixie, MP100011993

MARYLAND

Baltimore Independent City

Baltimore City Municipal Office Building, 200 N Holliday Street, Baltimore, SG100011983

Frederick County

Kemp Property, 1761 Eagle Rock Lane, Frederick, SG100011982

MONTANA

Beaverhead County

The Bridges of Poindexter Slough Historic District, Milepost 2.65-2.90 on Montana Secondary Highway 222, Dillon vicinity, SG100011992

NEW YORK

Ulster County

Roosa House, 882 Berme Road, High Falls (Marbletown), SG100011986

OHIO

Franklin County

Mt. Vernon Avenue Historic District, Roughly bounded by Mt. Vernon, Monroe, Atcheson, and 22nd Streets, Columbus, SG100011985

OKLAHOMA

Muskogee County

Moton School Campus Historic District, 208 W Seminole Street, Taft, SG100011984

WASHINGTON

Benton County

Kennewick Fruit & Produce Company Building, 215 West Canal Drive, Kennewick, SG100011980

Pacific County

Fort Columbia, US HWY 101, Approx 2.3 miles west of Astoria—Megler Bridge, Chinook vicinity, SG100011981

Additional documentation has been received for the following resource(s):

ARKANSAS

Pope County

Russellville Downtown Historic District (Additional Documentation, Roughly bounded by W. 2nd St., Arkansas Ave., Missouri—Pacific RR tracks and El Paso St., Russellville, AD96000941

Authority: Section 60.13 of 36 CFR part 60.

Sherry A. Frear,
Chief, National Register of Historic Places/National Historic Landmarks Program.

[FR Doc. 2025-11236 Filed 6-17-25; 8:45 am]

BILLING CODE 4312-52-P